DEPARTMENT OF ENERGY

Federal Energy Regulatory Commission

[Docket No. RM01-12-000]

Standard Market Design Data and Software Standards; Notice of Conference and Agenda

July 9, 2002.

As announced in the Notice of Conference issued June 6, 2002, the staff of the Federal Energy Regulatory Commission (Commission) will hold a conference on data and software needs in connection with the implementation of the Commission's Standard Market Design (SMD) rule. The conference will be held on July 18, 2002, starting at 9:00 a.m. (a change from the previously noticed starting time) at the Federal Energy Regulatory Commission, 888 First Street, N.E., in Washington DC, in the Commission Meeting Room.

The conference will discuss data and software standards needed to implement SMD efficiently. The focus will be on exploring what should be standardized; whether there should be a standard data model; on examining the potential for developing data sets to benchmark the needed software; and on finding user-friendly, transparent interfaces that will help to instill confidence in the process. Attached is the Conference Agenda.

All interested parties are invited to attend. There is no registration or fee.

The conference will be transcribed. Those interested in acquiring the transcript should contact Ace Reporters at 202-347-3700, or 800-336-6646. Transcripts will be placed in the public record ten days after the Commission receives the transcripts. Additionally, Capitol Connection offers the opportunity for remote listening and viewing of the conference. It is available for a fee, live over the Internet, via C-Band Satellite. Persons interested in receiving the broadcast, or who need information on making arrangements should contact David Reininger or Julia Morelli at the Capitol Connection (703-993-3100) as soon as possible or visit the Capitol Connection website at ­http://www.capitolconnection.gmu.edu and click on “FERC.”

All interested parties are invited to attend. For additional information, please contact Rene Forsberg at 202-208-0425 or Reneé.Forsberg@ferc.gov.

Linwood A. Watson, Jr.,
Deputy Secretary.

Conference Agenda

Opening Remarks: 9 a.m.

Software Developments: 9:05 a.m.-11:30 a.m.

Ongun Alsac, Senior Vice President, Nexant, Inc.

John Finney, Director of Technology, ABB, Inc.

Guillermo Irisarri, Executive Vice President and Principal Engineer, OATI, Inc.

Petar Ristanovic, Executive Consultant, Siemens Power Transmission and Distribution, Inc.

David Sun, Corporate Engineer, ALSTOM, Corp.

Lunch and Software Demos: 11:30 a.m.-1 p.m.

Security Issues: 1 p.m.-1:30 p.m.

Howard Schmidt, Vice Chairman, President's Critical Infrastructure Protection Board.

Chuck Noble, Information Security Coordinator, New England ISO.

ISO Software Experience: 1:30 p.m.-3:30 p.m.

Cherie Broadrick, Manager Corporate Planning, ERCOT.

David La Plante, Vice President Market Development, New England ISO.

Andy Ott, General Manager of Market Coordination, PJM ISO.

Roberto Paliza, Principal Consultant, Midwest ISO.

Don Watkins, Chairman, Common Systems Interface Coordination Group, Seams Steering Group—Western Interconnection (SSG-WI).

Planning Process for Software and Data Standards: 3:45 p.m.-5 p.m.

Clark Gellings, Vice President Power Delivery and Markets Electric Power Research Institute.

Ongun Alsac, Senior Vice President, Nexant, Inc.

John Finney, Director of Technology, ABB, Inc.

Guillermo Irisarri, Executive Vice President and Principal Engineer, OATI, Inc.

Petar Ristanovic, Executive Consultant, Siemens Power Transmission and Distribution, Inc.

David Sun, Corporate Engineer, ALSTOM Corp.

Cherie Broadrick, Manager Corporate Planning, ERCOT.

David La Plante, Vice President Market Development, New England ISO.

Andy Ott, General Manager of Market Coordination, PJM ISO.

Roberto Paliza, Principal Consultant, Midwest ISO.

Don Watkins, Chairman, Common Systems Interface Coordination Group, Seams Steering Group—Western Interconnection (SSG-WI).

* * * * *

[FR Doc. 02-17732 Filed 7-12-02; 8:45 am]

BILLING CODE 6717-01-P